DEPARTMENT OF ENERGY

[Announcement Number DE-PS36-04GO94000]

Hydrogen Safety, Codes and Standards Research

AGENCY: Golden Field Office, U.S. Department of Energy.

ACTION: Notice of issuance of announcement for financial assistance applications.

SUMMARY: The U.S. Department of Energy (DOE), Golden Field Office is announcing its intention to seek financial assistance applications for specific categories of research projects that will support the goals and objectives of the Hydrogen Safety, Codes and Standards Program. The three eligible research projects involved include Hydrogen System Sensors, Pipeline Materials and Sensors, and Process Plant Sensors. The effect of these projects is to ensure that research and development activities under this Program bring hydrogen systems into the marketplace.

DATES: The Funding Opportunity Announcement is anticipated to be issued on February 24, 2004.

ADDRESSES: To obtain a copy of the Announcement, interested parties should access the DOE Golden Field Office Home page at http://www.go.doe.gov/funding.html, click on the word “access.” The link will open the Industry Interactive Procurement System (IIPS) Web site and provide links to all Golden Field Office Announcements. The Announcement can also be obtained directly through IIPS at http://e-center.doe.gov by browsing opportunities by Contracting Activity, for those Announcements issued by the Golden Field Office. DOE will not issue paper copies of the Announcement.

IIPS provides the medium for disseminating Announcements, receiving financial assistance applications, and evaluating the applications in a paperless environment. The application must be submitted in IIPS by the applicant or a designated representative that receives authorization from the applicant. The application documentation must reflect the name and title of the representative authorized to enter the applicant into a legally binding contract or agreement. The applicant or the designated representative must first register in IIPS. For questions regarding the operation of IIPS, contact the IIPS Help Desk at IIPS_HelpDesk@e-center.doe.gov or at (800) 683-0751, Option 1.

FOR FURTHER INFORMATION CONTACT: Cheri Schmitt, Financial Assistance Specialist, DOE Golden Field Office, 1617 Cole Boulevard, Golden, CO 80401-3393 or via facsimile to Cheri Schmitt at (303) 275-4753, or electronically to Cheri Schmitt at cheri.schmitt@go.doe.gov.

SUPPLEMENTARY INFORMATION: The Hydrogen, Fuel Cells, and Infrastructure Technologies Program of DOE's Office of Energy Efficiency and Renewable Energy is soliciting financial assistance applications with the objective of contributing to industry efforts and the President's Hydrogen Fuel Initiative in developing a path to a hydrogen economy. DOE intends to provide financial support for this effort under authority of the Hydrogen Future Act of 1996, Public Law 104-271. Section 103 of this Act requires DOE to conduct a hydrogen research and development program relating to production, storage, transportation, and the use of hydrogen, with the goal of enabling the private sector to demonstrate the technical feasibility of using hydrogen for industrial, residential, transportation, and utility applications. See 42 U.S.C 12403. Under the President's Hydrogen Fuel Initiative, DOE will initiate or accelerate research in technologies that will ultimately contribute to the development of more economical hydrogen production, storage, and utilization. Awards under this Announcement will be Grants or Cooperative Agreements that will have terms of up to three years. Possible funding into Years 2 and 3 will depend on the outcome of a DOE go/no-go decision point at the end of each year of each project. Awards will be for the complete project period, with funding provided by DOE during each year, as applicable. Subject to the availability of appropriations, DOE funding is anticipated to be available for awards under this Announcement from Fiscal Year (FY) 2005 through FY 2007. The available DOE funding in FY 2005, FY 2006 and FY 2007 is anticipated to be approximately $2,000,000 per Fiscal Year. Individual awards under this Announcement will not exceed $400,000 in DOE funding for Year 1 of the project. Specific DOE funding limits per award will not be imposed for Years 2 and 3. Applicants will be asked to propose the required DOE funding for these two Years to achieve the proposed project objectives. It is anticipated that up to a total of five awards will be made.

All types of applicants are eligible to apply, except other Federal agencies, Federally Funded Research and Development Centers (FFRDCs), and nonprofit organizations described in Section 501(c)(4) of the Internal Revenue Code of 1986 that engage in lobbying activities. FFRDC contractors, although not eligible for an award, may be proposed as a team member as specified under this Announcement. A minimum required applicant cost share contribution is 20% of the total project cost.

Issued in Golden, Colorado, on February 24, 2004.
Jerry L. Zimmer,
Director, Office of Acquisition and Financial Assistance.

[FR Doc. 04-4581 Filed 3-1-04; 8:45 am]

BILLING CODE 6450-01-P